DEPARTMENT OF COMMERCE

National Oceanic and Atmospheric Administration

RIN 0648-XA774, 0648-XA806, and 0648-XE766

Marine Mammals and Endangered Species; File Nos. 13927, 16553, and 20532

AGENCY: National Marine Fisheries Service (NMFS), National Oceanic and Atmospheric Administration (NOAA), Commerce.

ACTION: Notice; issuance of permits.

SUMMARY: Notice is hereby given that permits or permit amendments have been issued to the following entities:

Permit No. 13927-03: James H.W. Hain, Ph.D., Associated Scientists at Woods Hole, Box 721, Woods Hole, MA 02543;

Permit No. 16553-01: Brent Stewart, Ph.D., J.D., Hubbs SeaWorld Research Institute, 2595 Ingraham Street, San Diego, CA 92109; and

Permit No. 20532: Stephen John Trumble, Ph.D., Baylor University, 101 Bagby Ave., Waco, TX 76706.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard (File Nos. 13927-03, 16553-01) and Shasta McClenahan or Jennifer Skidmore (File No. 20532) at (301) 427-8401.

SUPPLEMENTARY INFORMATION: Requests for a permit or permit amendment had been submitted by the above-named applicants. The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 13927-03: The original permit (No. 13927), issued on October 19, 2011 (76 FR 67151, October 31, 2016) authorized Dr. Hain to conduct aerial and vessel surveys to study North Atlantic right whales (Eubalaena glacialis). Humpback whales (Megaptera novaeangliae), bottlenose dolphins (Tursiops truncatus) and Atlantic spotted dolphins (Stenella frontalis) may be incidentally harassed. Research may occur annually, December through April off the U.S. southeast coast. Two subsequent amendments (13927-01 issued January 13, 2013 and 13927-02 issued December 1, 2015) increased the number of North Atlantic right whale takes and added unmanned aircraft systems, respectively. The minor amendment (No. 13927-03) extends the duration of the permit through October 31, 2017, but does not change any other terms or conditions of the permit.

Permit No. 16553-01: The original permit (No. 16553), issued on October 24, 2011 (76 FR 68719, November 7, 2011) authorized Dr. Stewart to continue a long term study on pinnipeds in California. California sea lions (Zalophus californianus), northern elephant seals (Mirounga angustirostris), and harbor seals (Phoca vitulina) may be captured and sampled at several sites: San Nicolas Island, San Miguel Island, Santa Rosa Island, Santa Cruz Island, Piedras Blancas, Cape San Martin, and Gorda. The minor amendment (No. 16553-01) extends the duration of the permit through October 31, 2017, but does not change any other terms or conditions of the permit.

Permit No. 20532: The requested permit (81 FR 59190, August 29, 2016) authorizes receipt, import, and export of biological samples from museum holdings and stranded animals worldwide for scientific research to chronologically profile anthropogenic and physiological data including hormones and pesticides to record exposure and stress. Samples will be from blue (Balaenoptera musculus), gray (Eschrichtius robustus), fin (B. physalus), minke (B. acutorostrata), bowhead (Balaena mysticetus), humpback (Megaptera novaeangliae), and sperm whales (Physeter macrocephalus). Samples may also be obtained from subsistence hunted bowhead whales in Alaska. The permit is valid through November 1, 2021.

In compliance with the National Environmental Policy Act of 1969 (42 U.S.C. 4321 et seq.), a final determination has been made that the activities proposed are categorically excluded from the requirement to prepare an environmental assessment or environmental impact statement.

As required by the ESA, as applicable, issuance of these permits was based on a finding that such permits: (1) Were applied for in good faith; (2) will not operate to the disadvantage of such endangered species; and (3) are consistent with the purposes and policies set forth in section 2 of the ESA.

Dated: November 15, 2016.
Julia Harrison,
Chief, Permits and Conservation Division, Office of Protected Resources, National Marine Fisheries Service.

[FR Doc. 2016-27860 Filed 11-18-16; 8:45 am]

BILLING CODE 3510-22-P